DEPARTMENT OF TRANSPORTATION

Office of the Secretary

[Docket No. DOT-OST-2015-0112]

Request for Comments of a Previously Approved Information Collection

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on June 3, 2015, in the Federal Register (80 FRN, page(s) 31643-31644). No comments were received.

DATES: Comments must be submitted on or before September 30, 2015.

FOR FURTHER INFORMATION CONTACT: Ellen Shields, Associate Director of the Financial Assistance Policy and Oversight Division, M-65, Office of the Senior Procurement Executive, Office of the Secretary, Room W83-, Department of Transportation, 1200 New Jersey Avenue SE., Washington, DC 20590, (202) 366-4268.

SUPPLEMENTARY INFORMATION: Title: Uniform Administrative Requirements, Cost Principles, and Audit Requirement for Federal Awards.

OMB Control Number: 2105-0520.

Type of Request: Reinstatement of a Previously Approved Information Collection(s).

Abstract: This is to request the Office of Management and Budget's (OMB) renewed three-year approved clearance for the information collection, entitled, “Uniform Administrative Requirements, Cost Principles, and Audit Requirements for Federal Awards” OMB Control No 2105-0520. Originally this OMB Control Number was titled: Uniform Administrative Requirements for Grants and Agreements to State and Local Governments and with Institution of Higher Education, Hospitals and Other Non-Profit Organizations (OMB Circulars A-110 and 2 CFR 215). However, on December 26, 2014, OMB issued new guidelines titled: Uniform Administrative Requirements, Cost Principles, and Audit Requirements for Federal Awards and these guidelines cover the following data collection standard forms (SF): Application for Federal Assistance (SF-424); Federal Financial Report (SF-425); Request for Advance or Reimbursement (SF-270); and Outlay Report & Request for Reimbursement for Construction Programs (SF-271).

There have also been adjustments to the burden estimates. In 2010, the Department estimated a combined total of 2,704 respondents and 189,280 burden hours. Due to a 35% decrease in appropriations, the Department has revised estimates and now has a combined total of 1,758 respondents and burden hours of 123,060. The estimated cost to respondents and the federal government has decreased by 35% in overhead expenses.

Affected Public: Grantees.

Estimated Number of Respondents: 1,758.

Estimated Number of Responses: 7,030.

Annual Estimated Total Annual Burden Hours: 123,060.

Frequency of Collection: Quarterly and Yearly.

ADDRESSES: Send comments regarding the burden estimate, including suggestions for reducing the burden, to the Office of Management and Budget, Attention: Desk Officer for the Office of the Secretary of Transportation, 725 17th Street NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Issued in Washington, DC, on August 24, 2015.
Claire W. Barrett,
Departmental Chief Privacy & Information Asset Officer, US Department of Transportation.

[FR Doc. 2015-21502 Filed 8-28-15; 8:45 am]

BILLING CODE 4910-9X-P